NATIONAL AERONAUTICS AND SPACE ADMINISTRATION

[Notice (02-041)]

NASA Advisory Council, Space Science Advisory Committee, Education and Public Outreach Task Force; Meeting

AGENCY: National Aeronautics and Space Administration (NASA).

ACTION: Notice of meeting.

SUMMARY: In accordance with the Federal Advisory Committee Act, Public Law 92-463, as amended, the National Aeronautics and Space Administration announces a meeting of the NASA Advisory Council, Space Science Advisory Committee, Education and Public Outreach (E/PO) Task Force.

DATES: Thursday, April 18, 2002, 8:30 a.m. to 5:30 p.m., and Friday, April 19, 2002, 8:30 to 5:30 p.m.

ADDRESSES: Omni Shoreham Hotel, 2500 Calvert Street, NW, Washington, DC 20008.

FOR FURTHER INFORMATION CONTACT: Dr. Jeffrey D. Rosendhal, Code S, National Aeronautics and Space Administration, Washington, DC 20546, (202) 358-2470.

SUPPLEMENTARY INFORMATION: The meeting will be open to the public up to the capacity of the room. The agenda for the meeting includes the following topics:

—Role of E/PO in Office of Space Science Program

—Role of the Office of Space Science E/PO Program in the Overall NASA Education Program

—Background on the Office of Space Science E/PO Program

—Issues to be addressed by the Task Force

—Task Force Schedule and Assignments

It is imperative that the meeting be held on these dates to accommodate the scheduling priorities of the key participants. Visitors will be requested to sign a visitor's register.

Sylvia K. Kraemer,
Advisory Committee Management Officer, National Aeronautics and Space Administration.

[FR Doc. 02-6986 Filed 3-22-02; 8:45 am]

BILLING CODE 7510-01-P